DEPARTMENT OF HOMELAND SECURITY

Coast Guard

[Docket No. USCG-2016-1073]

Chemical Transportation Advisory Committee; Vacancies

AGENCY: Coast Guard, Department of Homeland Security.

ACTION: Request for applications.

SUMMARY: The Coast Guard seeks applications for membership on the Chemical Transportation Advisory Committee. The Chemical Transportation Advisory Committee provides advice and makes recommendations on matters relating to the safe and secure marine transportation of hazardous materials insofar as they relate to matters within the United States Coast Guard's jurisdiction.

DATES: Completed applications for the Chemical Transportation Advisory Committee should reach the Coast Guard on or before April 17, 2017.

ADDRESSES: Applicants should send their resume, and a cover letter identifying which of the five membership categories they wish to represent, to the Chemical Transportation Advisory Committee via one of the following methods:

• By Email: Patrick.m.hilbert@uscg.mil.

• By Fax: (202) 372-8380.

• By Mail: Commander Patrick Hilbert, Designated Federal Official of the Chemical Transportation Advisory Committee, Commandant, Hazardous Materials Division (CG-ENG-5), U.S. Coast Guard, 2703 Martin Luther King Jr. Ave. SE., Stop 7509, Washington, DC 20593-7509.

FOR FURTHER INFORMATION CONTACT: Lieutenant Commander Julie Blanchfield, 2703 Martin Luther King Jr. Avenue SE., Stop 7509, Washington, DC 20593-7509, Julie.e.blanchfield@uscg.mil, phone: 202-372-1419, fax: 202-372-8380.

SUPPLEMENTARY INFORMATION: The Chemical Transportation Advisory Committee is established under the authority of Section 871 of the Homeland Security Act of 2002, 6 U.S.C. 451. The Chemical Transportation Advisory Committee is a federal advisory committee operating under the provisions of the Federal Advisory Committee Act (Title 5, U.S.C. Appendix).

The Chemical Transportation Advisory Committee provides advice and recommendations to the Department of Homeland Security on matters relating to the safe and secure marine transportation of hazardous materials insofar as they relate to matters within the United States Coast Guard's jurisdiction.

The Chemical Transportation Advisory Committee meets at least twice per year. It may also meet for extraordinary purposes. Its subcommittees may meet to consider specific problems as required.

The Coast Guard will consider applications for 10 positions that become vacant on September 17, 2017. The membership categories are: Chemical manufacturing, marine handling or transportation of chemicals, vessel design and construction, marine safety or security, and marine environmental protection. Each member serves for a term of three years, and may serve no more than two consecutive three-year terms. A member appointed to fill an unexpired term may serve the remainder of that term. All members serve at their own expense and receive no salary, reimbursement of travel expenses, or other compensation from the Federal Government.

The Department of Homeland Security does not discriminate in selection of Committee members on the basis of race, color, religion, sex, national origin, political affiliation, sexual orientation, gender identity, marital status, disabilities and genetic information, age, membership in an employee organization, or any other non-merit factor. The Department of Homeland Security strives to achieve a widely diverse candidate pool for all of its recruitment actions.

If you are interested in applying to become a member of the Committee, send your cover letter and resume to Commander Patrick Hilbert, Designated Federal Official of the Chemical Transportation Advisory Committee, via one of the transmittal methods in the ADDRESSES section by the deadline in the DATES section of this notice. All email submittals will receive email receipt confirmation.

Dated: February 9, 2017.
F. J. Sturm,
Acting Director, Commercial Regulations and Standards.

[FR Doc. 2017-02927 Filed 2-13-17; 8:45 am]

BILLING CODE 9110-04-P